ENVIRONMENTAL PROTECTION AGENCY

[EPA-HQ-OAR-2007-0563; FRL-11345-01-OMS]

Agency Information Collection Activities; Submission to the Office of Management and Budget for Review and Approval; Comment Request; National Volatile Organic Compound Emission Standards for Consumer Products (Renewal)

AGENCY: Environmental Protection Agency (EPA).

ACTION: Notice.

SUMMARY: The Environmental Protection Agency (EPA) has submitted an information collection request (ICR), National Volatile Organic Compound Emission Standards for Consumer Products (EPA ICR Number 1764.09, OMB Control Number 2060-0348) to the Office of Management and Budget (OMB) for review and approval in accordance with the Paperwork Reduction Act. This is a proposed extension of the ICR, which is currently approved through August 31, 2023. Public comments were previously requested, via the Federal Register, on May 18, 2023, during a 60-day comment period. This notice allows for an additional 30 days for public comments.

DATES: Comments may be submitted on or before September 18, 2023.

ADDRESSES: Submit your comments, referencing Docket ID Number EPA-HQ-OAR-2007-0563, to EPA online using www.regulations.gov/ (our preferred method); by email to a-and-r-docket@epa.gov; or by mail to: EPA Docket Center, Environmental Protection Agency, Mail Code 28221T, 1200 Pennsylvania Ave. NW, Washington, DC 20460. The EPA's policy is that all comments received will be included in the public docket without change, including any personal information provided, unless the comment includes profanity, threats, information claimed to be Confidential Business Information (CBI) or other information whose disclosure is restricted by statute.

Submit written comments to OMB for the proposed information collection within 30 days of publication of this notice to www.reginfo.gov/public/do/PRAMain. Find this particular information collection by selecting “Currently under 30-day Review—Open to the Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through July 31, 2023. An agency may neither conduct nor sponsor, and a person is not required to respond to, a collection of information unless it displays a currently-valid OMB control number.

Public comments were previously requested, via the Federal Register, on January 31, 2023 during a 60-day comment period (87 FR 43843). This notice allows for an additional 30 days for public comments. Supporting documents, which explain in detail the information that the EPA will be collecting, are available in the public docket for this ICR. The docket can be viewed online at www.regulations.gov, or in person at the EPA Docket Center, WJC West Building, Room 3334, 1301 Constitution Ave. NW, Washington, DC. The telephone number for the Docket Center is 202-566-1744. For additional information about EPA's public docket, visit http://www.epa.gov/dockets.

Abstract: The EPA is required under section 183(e) of the Clean Air Act (Act) to regulate VOC emissions from the use of consumer and commercial products. Pursuant to section 183(e)(3), the EPA published a list of consumer and commercial products and a schedule for their regulation on March 23, 1995 (60 FR 15264). Consumer products were included in Group I of the list, and standards were promulgated on September 11, 1998 and are codified at 40 CFR part 59, subpart C. The National Volatile Organic Compound Emission Standards for Consumer Products (40 CFR part 59, subpart C) were proposed on April 2, 1996; promulgated on September 11, 1998; and most-recently amended on June 25, 2013. These standards apply to manufacturers, importers, and distributors of consumer products. This information is being collected to ensure compliance with 40 CFR part 59, subpart C.

Form Numbers: None.

Respondents/affected entities: Manufacturers, importers, and distributors of consumer products.

Respondent's obligation to respond: Mandatory (40 CFR part 59, subpart C).

Estimated number of respondents: 337 (total).

Frequency of response: Initially and occasionally.

Total estimated burden: 17,500 hours (per year). Burden is defined at 5 CFR 1320.3(b).

Total estimated cost: $2,210,000 (per year). There are no annualized capital/startup and/or operation & maintenance costs.

Changes in the Estimates: The adjustment increase in burden from the most-recently approved ICR is due to a correction in the calculation for clerical labor hours. The most-recently approved ICR incorrectly estimated clerical labor hours by multiplying technical labor hours by 0.01 (1%). This calculation was corrected to multiply technical labor hours by 0.1 (10%). As described above in section 6(e)(i), clerical burdens are assumed to take 10% of the time required for technical tasks because the typical duties of clerical staff are to proofread the reports, make copies, and maintain records. Although the supporting statement for the most-recently approved ICR indicated there are 732 respondents, this was based on the sum of all values listed in column D of Table 1, which resulted in double counting. This has been corrected to 337 respondents as described in Sections 1(b) and 6(d), above. However, the number of respondents listed for each line item of Table 1 is unchanged; therefore, this correction did not result in a decrease in the estimated burden.

Courtney Kerwin,
Director, Regulatory Support Division.

[FR Doc. 2023-17839 Filed 8-17-23; 8:45 am]

BILLING CODE 6560-50-P